DEPARTMENT OF DEFENSE

Department of the Navy

Notice of Intent To Grant Partially Exclusive Patent License; Jinga-hi, Inc.

AGENCY: Department of the Navy, DoD.

ACTION: Notice.

SUMMARY: The Department of the Navy herby gives notice of its intent to grant to Jinga-hi, Inc., a revocable, nonassignable, partially exclusive license in the United States to practice the Government-owned inventions described in U.S. Patent No. 7528606: Coupled Non-linear Sensor System for Sensing a Time-dependent Target Signal and Method of Assembling the System.//U.S. Patent No. 8049570: Coupled bi-stable microcircuit system for ultra-sensitive electrical and magnetic field sensing,//and U.S. Patent Application No. 12/749338: Coupled Bi-Stable Circuit for Ultra-Sensitive Electric Field Sensing Utilizing Differential Transistors Pairs.

DATES: Anyone wishing to object to the grant of this license must file written objections along with supporting evidence, if any, not later than February 17, 2012.

ADDRESSES: Written objections are to be filed with the Office of Research and Technology Applications, Space and Naval Warfare Systems Center Pacific, Code 72120, 53560 Hull St, Bldg A33 Room 2531, San Diego, CA 92152-5001.

FOR FURTHER INFORMATION CONTACT: Brian Suh, Office of Research and Technology Applications, Space and Naval Warfare Systems Center Pacific, Code 72120, 53560 Hull St, Bldg A33 Room 2531, San Diego, CA 92152-5001, telephone (619) 553-5118, email: brian.suh@navy.mil.

Authority: 35 U.S.C. 207, 37 CFR part 404.

Dated: January 25, 2012.
J. M. Beal,
Lieutenant Commander, Judge Advocate General's Corps,U.S. Navy, Federal Register Liaison Officer.

[FR Doc. 2012-2302 Filed 2-1-12; 8:45 am]

BILLING CODE 3810-FF-P